DEPARTMENT OF THE INTERIOR

Bureau of Land Management

[ID-080-1030-PH]

Notice of Public Meeting, Upper Columbia-Salmon Clearwater Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Columbia-Salmon Clearwater (UCSC) District Resource Advisory Council (RAC) will meet as indicated below.

DATES: June 18 and 19, 2003. The meeting will begin at 8 a.m. on the first day and end at approximately 5 p.m. on the second day. The public comment period will be from 1-2 p.m. on June 19th. The meeting will begin and end at the BLM Challis Field Office, 801 Blue Mountain Road, Challis, Idaho 83226. On the afternoon of June 18 and the morning of June 19, the RAC will be touring several areas around Challis and then return to the office by 1 p.m. on June 19th to conclude the meeting.

FOR FURTHER INFORMATION CONTACT: Stephanie Snook, RAC Coordinator, BLM UCSC District, 1808 N. Third Street, Coeur d'Alene, Idaho 83814 or telephone (208) 769-5004.

SUPPLEMENTARY INFORMATION: The 15-member Council advises the Secretary of the Interior, through the Bureau of Land Management, on a variety of planning and management issues associated with public land management in Idaho. The following topics will be discussed at the June 18-19, 2003 meeting:

• Review and approve minutes from March 12-13 meeting.

• Hear reports from and discuss RAC Chair meetings and Tri-RAC OHV subgroup meeting.

• Briefing on Sustainability Conference, BLM Land Acquisition and Disposal Program, RAC Nominations, and Land Use Planning.

• Field tour and discussions about Rangeland Standards and Guidelines, noxious weeds, Challis wild horse herd, proposed ATV trail, and other natural resource issues.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided above.

Dated: May 1, 2003.
Lewis M. Brown,
Acting District Manager.

[FR Doc. 03-11264 Filed 5-6-03; 8:45 am]

BILLING CODE 4310-GG-P